DEPARTMENT OF AGRICULTURE

Rural Business-Cooperative Service

Rural Housing Service

Rural Utilities Service

[Docket No. RBS-22-COOP-0016]

Notice of Funds Availability for the Rural Placemaking Innovation Challenge (RPIC) for Fiscal Year 2022

AGENCY: Rural Business-Cooperative Service (RBCS), Rural Utilities Service (RUS), Rural Housing Service (RHS), USDA.

ACTION: Notice of funds availability.

SUMMARY: The Under Secretary for Rural Development (RD) is seeking applications, for the Rural Development Cooperative Agreement Program, herein referred to as the Rural Placemaking Innovation Challenge (RPIC), from eligible entities to provide technical assistance and training to rural communities for placemaking planning and implementation. This funding opportunity will be administered by the USDA Rural Development Innovation Center and is authorized by the Consolidated Appropriations Act, 2022, to provide up to $4 million in competitive cooperative agreement funds. This announcement lists the information needed to submit an application.

DATES: Applications for RPIC cooperative agreement(s) must be submitted electronically through Grants.gov by 11:59 p.m. Eastern Daylight Time by August 15, 2022. Applications received after 11:59 p.m. Eastern Daylight Time on August 15, 2022 will not be considered.

ADDRESSES: Application Submission: The application system for electronic submissions will be available at https://www.grants.gov/.

FOR FURTHER INFORMATION CONTACT: USDA Rural Development, Innovation Center, via email at: RD.RPIC@usda.gov, or via phone at: Gregory Dale (202) 568-9558 or Sherri McCarter (615) 982-2078. Persons with disabilities who require alternative means for communication should contact the U.S. Department of Agriculture (USDA) Target Center at (202) 720-2600 (voice). The last day for accepting questions on this notice will be August 12, 2022. Questions submitted after this deadline cannot be guaranteed a timely answer in advance of the closing date of this notice.

SUPPLEMENTARY INFORMATION:

Authority: This solicitation is authorized pursuant to 7 U.S.C. 2204b(b)(4); Consolidated Appropriations Act, 2022.

Overview

Federal Agency: Rural Business-Cooperative Service (RBCS), Rural Utilities Service (RUS), and Rural Housing Service (RHS), (USDA).

Funding Opportunity Title: Rural Placemaking Innovation Challenge (RPIC).

Announcement Type: Notice of Funds Availability (NOFA).

Assistance Listing Number: Rural Development Cooperative Agreement Program—10.890.

Due Date for Applications: Applications for RPIC cooperative agreement(s) must be received by 11:59 p.m. on August 15, 2022. Applications received after 11:59 p.m. Eastern Daylight Time on August 15, 2022 will not be considered.

Rural Development: Key Priorities

The Agency encourages applicants to consider projects that will advance the following key priorities (more details available at https://www.rd.usda.gov/priority-points)

• Assisting rural communities recover economically from the impacts of the COVID-19 pandemic, particularly disadvantaged communities;

• Ensuring all rural residents have equitable access to RD programs and benefits from RD funded projects; and

• Reducing climate pollution and increasing resilience to the impacts of climate change through economic support to rural communities.

For further information, visit https://www.rd.usda.gov/priority-points.

Items in Supplementary Information

I. Program Overview

II. Federal Award Information

III. Definitions

IV. Eligibility Information

V. Application and Submission Information

VI. Application Review Information

VII. Federal Award Administration Information

VIII. Federal Awarding Agency Contacts

IX. Other Information

I. Program Overview

A. Background

The Rural Placemaking Innovation Challenge (RPIC) provides planning support, technical assistance, and training to communities to foster placemaking activities in rural communities. Funds can help enhance capacity for broadband access, preserve cultural and historic structures, and support the development of transportation, housing, and recreational spaces. Applicants must demonstrate existing and proposed partnerships with public, private, philanthropic, Tribal and community partners to provide assistance in implementing the placemaking plan. This funding announcement supports the delivery of technical assistance and training in visioning, planning, and assisting communities to implement placemaking efforts in rural communities under the Rural Placemaking Innovation Challenge.

B. Program Description

RD is authorized to administer cooperative agreement awards in accordance with 7 U.S.C. 2204b(b)(4). The intention of RPIC is to provide cooperative agreement funding to eligible applicants working to promote public-private, philanthropic partnerships in rural and Tribal communities that encourage economic and social development. These projects are intended to support rural America and align with the mission of existing USDA RD programs to increase rural economic growth and improve the quality of life in rural America by supporting essential services such as housing, economic and community development, and required infrastructure.

For the purpose of this notice, Technical Assistance and Training for Placemaking is defined in Part III.

RPIC operates under the following concepts:

• Creating livable communities is important for community developers and practitioners who implement these strategies in rural communities and areas.

• Placemaking practices include both innovative and adaptive as well as established technical processes and solutions.

• Partnerships are a key element to the RPIC and must be developed with public, private, and philanthropic organizations creating new collaborative approaches, learning together, and bringing those learned strategies into rural and Tribal communities.

• Placemaking contributes to long-term investment and therefore supports a community's resiliency, social stability, and collective identity.

• Broadband is an essential component to supporting placemaking initiatives.

Placemaking is a collaborative engagement process that helps leaders from rural and Tribal communities create quality places where people will want to live, work, play and learn. By bringing together partners from public, private, Tribal and philanthropic communities, and technology sectors, placemaking is a wrap-around approach to community and economic development that incorporates creativity, infrastructure initiatives, and vibrant public spaces. Key elements of quality places can include a mix of uses; effective public spaces; broadband capacity; preservation of historic places; transportation options; diverse house options; and a respect of community heritage, arts, culture, creativity, recreation and green space.

II. Federal Award Information

A. Assistance Listing Number: 10.890.

Assistance Listing Title: Rural Development Cooperative Agreement Program.

B. Funds Available

The amount available for RPIC in FY 2022 is up to $4 million. Lead applicants may not submit more than one application but may identify more than one community with which they are providing placemaking assistance. The maximum award amount for any one applicant is $250,000. RD reserves the right to withhold the awarding of any funds if no application receives a minimum score of at least 60 points. There is no commitment by USDA to fund any application that does not achieve the minimum score.

This funding opportunity lists the information needed to apply for these funds and announces that RD is accepting FY 2022 applications to support RPIC. Rural Development may at its discretion, increase the total level of funding available in this funding round or in any category in this funding round from any available source provided the awards meet the requirements of the statute which made the funding available to the agency.

C. Approximate Number of Awards

The Agency anticipates that it may select one, multiple, or no award recipients from this funding opportunity. Applicants may not submit more than one application.

D. Type of Instrument

RD is authorized to administer cooperative agreement awards in accordance with 7 U.S.C. 2204b(b)(4) for the Rural Placemaking Innovation Challenge.

E. Period of Performance

The maximum Period of Performance is 2 years. Applicants should anticipate a Period of Performance beginning October 1, 2022 and ending no later than September 30, 2024.

III. Definitions

The terms and conditions provided in this Notice of Funds Availability (NOFA) are applicable to and for the purposes of this NOFA only. Unless otherwise provided in the award documents, all financial terms not defined herein shall have the meaning as defined by Generally Accepted Accounting Principles (GAAP).

Capacity is defined as previous experience with state or federal grant administration and demonstrated experience in economic development and placemaking technical assistance.

Multi-jurisdictional means more than one jurisdiction where jurisdiction refers to a unit of government or other entity with similar powers, such as a city, county, district, special purpose district, township, town, borough, parish, village, state, Tribe, etc.

Multi-sectoral means intentional collaboration between two or more sectors (e.g., utility, health, housing, community services, etc.) to accomplish goals and achieve outcomes in communities and regions.

Placemaking is a collaborative engagement process that helps leaders from rural communities create quality places where people will want to live, work, play and learn. By bringing together partners from public, private, Tribal, philanthropic communities, and technology sectors, placemaking is a wrap-around approach to community and economic development that incorporates creativity, infrastructure initiatives, and vibrant public spaces.

Placemaking Plan is a written document that describes the strategic plan for the community to implement the goals and objectives identified through the placemaking planning process.

Quality of life means a measure of human well-being that can be identified though economic and social indicators. Modern utilities, affordable housing, efficient transportation, and reliable employment are economic indicators that must be integrated with social indicators such as access to medical services, public safety, education, and community resilience to empower rural communities to thrive.

Region (Four Regions) means:

• The Northeast includes Maine, New Hampshire, Vermont, Massachusetts, Rhode Island, Connecticut, New York, New Jersey, Delaware, Maryland, Virginia, West Virginia, and Pennsylvania.

• The Midwest includes Ohio, Michigan, Indiana, Wisconsin, Illinois, Minnesota, Iowa, Missouri, North Dakota, South Dakota, Nebraska, and Kansas.

• The South includes Kentucky, North Carolina, South Carolina, Tennessee, Georgia, Florida, Alabama, Mississippi, Arkansas, Louisiana, Texas, Puerto Rico, Virgin Islands and Oklahoma.

• The West includes Montana, Idaho, Wyoming, Colorado, New Mexico, Arizona, Utah, Nevada, California, Oregon, Washington, Alaska, Hawaii, and U.S. Pacific Island Territories.

RPIC Cooperative Agreement is the instrument used to fund the support of Rural Development's goals of increasing rural economic growth. In a cooperative agreement, federal employees participate more closely in project activities, often working side-by-side with the cooperator. Cooperators are expected to have expertise in placemaking and partnerships that will enable a rural community, area, or region to implement a placemaking strategy and improve the quality of life for its citizens.

Rural area is RBCS's Rural Area definition as described in Section 343(a)(13)(A) of the Consolidated Farm and Rural Development Act which defines “rural area” as any area other than (1) a city or town that has a population of greater than 50,000 inhabitants and (2) any urbanized area contiguous and adjacent to such city or town described in subparagraph (1) above.

Rural Partners Network (RPN) is an alliance of federal agencies and civic partners working to expand rural prosperity through job creation, infrastructure development, and community improvement. More information about RPN is available at https://www.rural.gov/.

Rural Partners Network Community Networks are community networks within the Rural Partners Network (RPN) and are identified and described on the RPN website, https://www.rural.gov/.

Sector means stakeholders from areas such as business, health, education, and/or workforce; or from organization types such as public, Tribal communities, private, non-profit, and/or philanthropy.

Substantial involvement means when the Recipient and USDA RD participate together in the management and/or performance of the activity/project during post-award. This collaboration is programmatic in nature and may provide benefits (e.g., technical expertise, knowledge, etc.) that would otherwise be unavailable to the Recipient.

Technical Assistance (TA) for Placemaking means the applicant participates in the process of providing targeted support for the delivery of placemaking planning and implementation in partnership with identified rural communities.

Training for Placemaking means the applicant provides training to the community on the components relating to the placemaking planning process, and implementation around placemaking and community and economic development processes. Training may be in the form of information, workshops, and/or mentoring.

Tribe means the term as defined in the Federally Recognized Indian Tribe List Act of 1994 (Pub. L. 103-454; 108 Stat. 4791, 4792). An American Indian or Alaska Native Tribe, band, nation, pueblo, village, or community that the Secretary of the Interior acknowledges to exist as an Indian Tribe under the Federally Recognized Tribe List Act of 1994 (25 U.S.C. 479a-1).

Tribal Entity includes all entities falling into the eligible legal structures, including but not limited to: Tribal owned corporations, intertribal non-profits and associations, Alaska Native Corporations, Native entities within the State of Alaska recognized by and eligible to receive services from the U.S. Department of the Interior's Bureau of Indian Affairs, Native Hawaiian organizations including Homestead Associations, State recognized tribes/non-profits, and individually-owned Native American entities.

Commonly used Acronyms:

DCI Distressed Communities Index

FY Fiscal Year

HBCU Historically Black Colleges and Universities

LOC Letter of Conditions

NEPA National Environmental Policy Act

NICRA Negotiated Indirect Cost Rate Agreement

RD Rural Development

RDCA Rural Development Cooperative Agreement

RPIC Rural Placemaking Innovation Challenge

SAM System for Award Management

SBA Small Business Administration

UEI Unique Entity Identifier

USDA United States Department of Agriculture

CFR Code of Federal Regulation

SPOC Single Point of Contact

IV. Eligibility Information

A. Applicants

Applicants must meet the following eligibility requirements by the application deadline. Applications that fail to meet any of these requirements by the application deadline will be deemed ineligible and will not be evaluated further and will not receive a federal award. Applicants may not submit more than one application.

Applicant Eligibility: Federally recognized Tribes and Tribal Entities (See Part III); institutions of higher education (including 1862 Land-Grant Institutions, 1890 Land-Grant Institutions, 1994 Land-Grant Institutions, Hispanic-Serving Institutions, and Historically Black Colleges and Universities (HBCU)); nonprofit organizations with 501(c)(3) IRS status; public bodies; or small private entities meeting the size standards established by the U.S. Small Business Administration (SBA).

Entities are not eligible if they have been debarred or suspended or otherwise excluded from, or ineligible for, participation in federal assistance programs under 2 CFR parts 180 and 417. In addition, an applicant will be considered ineligible for a cooperative agreement due to an outstanding judgment obtained by the U.S. in a federal court (other than U.S. Tax Court) or if the applicant is delinquent on the payment of federal income taxes or federal debt.

B. Eligible Project

The proposed project must include a component that allows for active participation by the Cooperator and substantial involvement by RD in the specified tasks outlined in the applicant's project proposal. Examples of measurable substantial involvement include, but are not limited to, the following: joint convenings of community members, partners, and stakeholders; joint delivery of training for RD programs; and the development of training sessions and outreach materials. It is the intent of this project to engage RD staff in the placemaking process, and it is the responsibility of the applicant to identify specific tasks where RD staff can provide measurable, substantial involvement in the project. If tasks are not identified, the application will not be eligible for funding.

The project must also directly benefit a rural area. All ultimate beneficiaries and/or subrecipients must be located in rural areas, and any activities or tasks must occur in rural areas.

Duplication of services is not allowed. Applicants must demonstrate that they are providing services either to new customers or new services to current customers. If the applicant's workplan and budget are duplicative of a previous and/or existing RPIC award, the application will not be considered for funding. RD will make this determination.

C. Cost Sharing and Matching Funds Verification

(1) A minimum 15 percent match of the federal grant amount requested for the cooperative agreement award is required for all applications. Matching commitments may be made in cash by the applying organization, or a combination of cash and confirmed funding commitments with third-party in-kind contributions as defined in 2 CFR 200.306. This minimum match of at least 15 percent of the federal amount requested must be committed for a period of not less than the cooperative agreement performance period. Cost sharing/matching must be committed at the time of application submission.

(2) Applicants may recruit one or more private, philanthropic, and/or eligible public partner(s) to provide the matching 15 percent (in cash and/or in-kind contributions) of the applicant's proposed federal funding request (i.e., the federal grant amount requested), or the applicant can provide the full match as its own cash contribution. It is permissible to provide a combination of third-party in-kind contribution (as defined in 2 CFR 200.306) from a partner and cash contribution from the applicant, but it is not permissible for the applicant to provide its own in-kind contribution as part of the match combination. If the applicant is going to provide its own match contribution, that match must be documented as a cash contribution.

(3) RPIC Project Verification of Matching Funds: The RPIC Matching Funds Letter must be signed by the donating organization's authorized representative on the organization's letterhead and must identify the amount of matching funds or in-kind services/goods, the time period during which matching contribution will be available, and the source of the funds, as applicable (e.g., cash on hand, bank statement(s) etc.).

• If providing an in-kind match, the third-party contributor must provide details on how those in-kind sources will be identified and tracked by the contributor.

• The contributor must also attach/stipulate the value of each of the goods or services (including the indirect/direct costs) being offered.

• If using calculated hours for estimating any in-kind service, the contributor must also provide how the value was arrived at for calculating the total cost for the in-kind match and associated personnel, as applicable.

Additional details about cost sharing or matching funds/contributions are located at 2

CFR 200.306. Applicant matching funds must be included in the budget justification. For matching funds offered by project partners, a separate Matching Funds Letter is required for each cash and/or third-party in-kind match contribution. Matching Funds Letters must be signed by the authorized organizational representative of the contributing organization and the applicant organization, which must include:

• the name, address, and telephone number of the contributor,

• the name of the applicant organization,

• the title of the project for which the contribution is made,

• the dollar amount of the contribution, and

• a statement that the contributor commits to furnish the contribution during the cooperative agreement period.

Applications without signed written commitments are considered incomplete and will be ineligible. The value of applicant contributions to the project is established according to Federal cost principles. Applicants should refer to 2 CFR 200.306 for additional guidance on matching funds, in-kind contributions, and allowable costs.

(4) Optional Seed Grant Matching Funds Contribution and Verification: The applicant MUST provide documentation of a third-party matching funds contribution if participating in the Optional Seed Grant scoring criteria. These matching funds are separate from the verified matched funds required for the RPIC application. The Matching Funds Letter for the optional seed grants MUST specifically state that the funds are being allocated to the Innovation Seed Grant. The letter may be conditioned to the applicant receiving the award. (Failing to provide verification of match for the optional seed grant disqualifies the applicant from this optional scoring criteria).

D. Funding Restrictions

The following funding restrictions also apply to this program:

(1) Pre-award costs are not authorized.

(2) Use of Funds. Award funds should be calculated based on the federal amount requested by the applicant. A minimum of 15 percent match is required (refer to Part IV, Section C, Cost Sharing and Matching Funds Verification).

(3) The applicant may not use its administrative overhead or indirect costs as any part of its matching funds contribution. Using an indirect cost rate or administrative overhead for a matching fund contribution will be deemed as an ineligible use of funds for the cooperative agreement.

(4) Program Income. If you expect to earn Program Income during the Period of Performance, you must identify the amount and how you expect to use it (e.g., matching funds) in your application. If your application is funded, unexpected Program Income or Program Income earned in excess of the amount you identify in your application will be deducted from the Federal share of the project in accordance with 2 CFR 200.307(e)(1).

E. Ineligible Application Information

(1) In addition to costs identified as unallowable by 2 CFR part 200 or 400, the following costs are prohibited for this program. Neither award funds nor matching funds can be used to pay for the following types of expenses (this is not a comprehensive list of unallowable costs, see 2 CFR part 200):

(a) Construction (in any form).

(b) Intermediary preparation of strategic plans for recipients.

(c) Grants to individuals.

(d) Funding a grant where there may be a conflict of interest, or an appearance of a conflict of interest, involving any action by the Agency.

(e) Purchasing real estate.

(f) Using cooperative agreement assistance or matching funds for individual development accounts.

(g) Purchasing vehicles.

(h) To pay an outstanding judgment obtained by the United States in a federal court (other than in the United States Tax court), which has been recorded. An applicant will be ineligible to receive an award until the judgment is paid in full or otherwise satisfied.

(2) Applications will first be reviewed to determine if applicants meet the eligibility requirements and compliance with the funding restrictions in this notice. If we determine that your application is ineligible, we will discontinue processing it, which means that we will not evaluate it further nor provide any scoring information.

V. Application and Submission Information

A. Electronic Application and Submission

Applications must be submitted electronically using Grants.gov. No other form of application will be accepted. Application and supporting materials are available at Grants.gov. Your application must contain all required information.

To apply electronically, you must follow the instructions for this funding announcement at Grants.gov. Please note that we will not accept applications through mail or courier delivery, in-person delivery, email, or fax.

You can locate the Grants.gov downloadable application package for this program by using a keyword, the program name, or the Assistance Listing Number for this program.

When you enter the https://www.grants.gov/ website, you will find information about applying electronically through the site as well as the hours of operation.

To use Grants.gov, you must already have a Unique Entity Identifier. At the time of application, each applicant must have an active registration in the System for Award Management (SAM) before submitting its application in accordance with 2 CFR part 25. To register in SAM, entities will be required to create a Unique Entity Identifier (UEI). Instructions for obtaining the UEI are available at https://sam.gov/content/entity-registration. We strongly recommend that you do not wait until the application deadline date to begin the application process through Grants.gov.

RD is not responsible for any technical malfunction or website problems related to Grants.gov. If issues are encountered with Grants.gov, please contact the Grants.gov help desk at (800) 518-4726 or support@grants.gov. The applicant assumes the risk of any delays in application submission through Grants.gov.

Submitting an application through Grants.gov requires completing a variety of tasks and steps. There are also several preliminary registration steps before the applicant can submit the application. It is recommended that the instructions for registering be reviewed as soon as possible but at least two weeks before the planned application submission date.

You must submit all application documents electronically through Grants.gov. Applications must include electronic signatures. Original signatures may be required if funds are awarded.

After applying electronically through Grants.gov you will receive an automatic acknowledgement from Grants.gov that contains a Grants.gov tracking number.

B. Content and Form of Application Submission

For an application to be considered complete, the applicant must complete and submit the forms and supporting documentation contained in this section in addition to the written narrative proposal information in Part VI.

Each page must be on numbered, letter-sized (8 ½″ × 11″) paper utilizing a white background that has 1″ margins, and the text of the application must be typed, single spaced, black, and in a font no smaller than 12 point.

(1) Applicants must complete and submit the following forms to apply for an RPIC cooperative agreement:

(a) Standard Form 424, “Application for Federal Assistance—Non-construction.”

(b) Standard Form 424A, “Budget Information—Non-Construction Programs.”

(c) Standard Form 424B, “Assurances—Non-Construction Programs.”

(d) Execute Form RD 400-1 “Equal Opportunity Agreement.”

(2) All applications shall be accompanied by the following supporting documentation in concise written narrative form:

(a) Civil Rights Compliance Requirements: All awards made under this notice are subject to Title VI of the Civil Rights Act of 1964 as required by 7 CFR part 15, subpart A, section 504 of the Rehabilitation Act of 1973, the Americans with Disabilities Act (ADA) of 1990, and the Age Discrimination Act of 1975.

(b) Evidence of applicant's legal existence and authority in the form of organizational documents such as: Articles of Incorporation, By-Laws, or Charter.

(c) Evidence of tax-exempt status from the Internal Revenue Service (IRS), if applicable.

(d) List of current principals and consultants, including first and last names.

(e) Applicants applying as a small private entity must provide a written self-certification which includes the entity's NAICS code or industry, number of employees or average annual revenue, and how the applicant meets the U.S. SBA small business size standards for their industry (https://www.sba.gov/size-standards).

(f) Negotiated Indirect Cost Rate Agreement, if applicable.

(g) Written Proposal—The written proposal should be assembled into one or more pdf file(s) and should conform to the order in which the Evaluation Criteria are presented in Part VI Section B. The completed pdf file(s) should be uploaded into Grants.gov as an attachment to the application. The maximum limit for the written narrative section is 25 pages. Information exceeding 25 pages for the written narrative may not be considered for evaluation by the scoring panel.

C. System for Award Management (SAM) and Unique Entity Identifier

To be eligible (unless you are excepted under 2 CFR 25.110(b), (c) or (d)), you are required to do the following:

(1) At the time of application, each applicant must have an active registration in the System for Award Management (SAM) before submitting its application in accordance with 2 CFR part 25. To register in SAM, entities will be required to create a Unique Entity Identifier (UEI). Instructions for obtaining the UEI are available at https://sam.gov/content/entity-registration.

(2) Register in SAM before submitting your application. You may register in SAM at no cost at https://www.sam.gov/portal/public/SAM/. You must provide your SAM CAGE Code and expiration date. Entities registering for the first time will also be assigned a UEI as part of the registration process. When registering in SAM, you must indicate you are applying for a federal financial assistance project or program or are currently the recipient of funding under any federal financial assistance project or program; and

(3) Maintain active and current SAM registration. The SAM registration must remain active with current information at all times while the Agency is considering an application or while a federal grant/cooperative agreement award or loan is active. To maintain the registration in the SAM database, the applicant must review and update the information in the SAM database annually from the date of initial registration or from the date of the last update. The applicant must ensure that the information in the database is current, accurate, and complete. Applicants must ensure they complete the Financial Assistance General Certifications and Representations in SAM.

The Agency will not make an award until the applicant has complied with all SAM requirements including providing the UEI. If an applicant has not fully complied with the requirements by the time the Agency is ready to make an award, the Agency may determine that the applicant is not qualified to receive a Federal award and use that determination as a basis for making a Federal award to another applicant.

D. Submission Dates and Times

In order to be considered for funds under this notice, applications must be deemed complete and must be received by Grants.gov by the deadline specified in the DATES section of this notice.

E. Intergovernmental Review

Executive Order (E.O.) 12372, Intergovernmental Review of Federal Programs, applies to this program. This E.O. requires that federal agencies provide opportunities for consultation on proposed assistance with state and local governments. Many states have established a Single Point of Contact (SPOC) to facilitate this consultation. For a list of states that maintain a SPOC, please see the White House website: https://www.whitehouse.gov/wp-content/uploads/2020/04/SPOC-4-13-20.pdf

Submit one copy of the application to the SPOC, if one has been designated, at the same time as application submission to the Agency. If the project is located in more than one state, submit a copy to each applicable SPOC. Any comments obtained through the SPOC must be provided to the individuals identified in the “FOR FURTHER INFORMATION CONTACT” section of this Notice for consideration as part of your application. If your state has not established a SPOC you may submit your application directly to the Agency. Tribes are exempt from this requirement.

F. Compliance with Other Federal Statutes and Other Submission Requirements

(1) Other Federal Statutes. The applicant must certify to compliance with other Federal Statutes and regulations by completing the Financial Assistance General Certification and Representations in SAM, including, but not limited to the following:

(a) 7 CFR part 15, subpart A—Nondiscrimination in Federally Assisted Programs of the Department of Agriculture—Effectuation of Title VI of the Civil Rights Act of 1964. Civil Rights compliance includes, but is not limited to the following:

(i) Collect and maintain data provided by ultimate recipients on race, sex, and national origin and ensure that ultimate recipients collect and maintain this data.

(ii) Race and ethnicity data will be collected in accordance with Office of Management and Budget (OMB) Federal Register Notice, “Revisions of the Standards for the Classification of Federal Data on Race and Ethnicity” (published October 30, 1997, at 62 FR 58782); Sex data will be collected in accordance with Title IX of the Education Amendments of 1972. These items should not be submitted with the application but should be available upon request by RD.

(b) The applicant and the ultimate recipient must comply with Title VI of the Civil Rights Act of 1964, Title IX of the Education Amendments of 1972, the Americans with Disabilities Act (ADA), Section 504 of the Rehabilitation Act of 1973, the Age Discrimination Act of 1975, Executive Order 12250, and 7 CFR part 1901, subpart E.

(c) 2 CFR parts 200 and 400 (Uniform Administrative Requirements, Cost Principles and Audit Requirements for Federal Awards), or any successor regulation.

(d) Executive Order 13166, “Improving Access to Services for Persons with Limited English Proficiency.” For information on limited English proficiency and agency-specific guidance, go to https://www.lep.gov/.

(e) Federal Obligation Certification on Delinquent Debt.

(2) Risk Review: RD may request additional documentation from selected applicants in order to evaluate the financial, management, and performance risk posed by awardees as required by 2 CFR 200.206. Based on this risk review, RD may apply special conditions that correspond to the degree of risk assessed.

(3) National Environmental Policy Act: This notice has been reviewed in accordance with 7 CFR part 1970, “Environmental Policies and Procedures.” We have determined that an Environmental Impact Statement is not required because the issuance of regulations and instructions, as well as amendments to them, describing administrative and financial procedures for processing, approving, and implementing the Agency's financial programs, is categorically excluded in the National Environmental Policy Act (NEPA) regulation found at 7 CFR 1970.53(f). It has been determined that this Funding opportunity does not constitute a major Federal action significantly affecting the quality of the human environment.

G. Indirect Costs

Organizations that have an active Negotiated Indirect Cost Rate Agreement (NICRA) with the Federal Government must use the rate identified in the NICRA to determine the indirect costs to be charged to this funding. Current NICRAs must be uploaded under Other Attachments (listed as an Optional Form) in the Grants.gov Opportunity Application Package. Entities without a NICRA may use a de minimis rate of up to 10 percent indirect costs rate. (Refer to 2 CFR 200.414 for additional information regarding indirect costs).

VI. Application Review Information

A. General

The projects should address how existing assets can be leveraged in support of a placemaking vision and how the projects will be evaluated (e.g., how projects are evaluated for funding strategies and sources, construction of new assets to be identified in the planning process). Awardees will be Cooperators and are required to participate substantially in the project alongside RD staff to bring expertise in placemaking technical assistance, to bring partnerships that will enable a rural community, area, or region to ultimately implement a placemaking strategy, and to improve the quality of life for its citizens.

Applicants are expected to provide proposals under this notice that include cooperation through substantial and measurable involvement by both the Cooperator and USDA RD staff. Proposals will support multi-sectoral or multi-jurisdictional projects in rural communities and demonstrate how placemaking technical assistance will be provided to develop implementation plans that can be aligned with the mission of USDA RD to improve quality of life and economic growth. The proposal must provide a detailed description of (i) the area to be served and (ii) how such area fits the definition of a region, multi-sectoral, or multi-jurisdictional rural area. Applicants must identify which Region or Regions are included in their proposal. If applicants propose to serve more than one Region, they must identify a primary Region.

Applicants for RPIC should be prepared to develop, be in the process of developing, or have developed a placemaking plan in partnership with public, private, Tribes, or philanthropic partners with the focus on local or regional revitalization towards economic vitality and quality of life impacts. The plans should identify potential projects that can be funded through RD programs and other federal, state, local or private sector resources. Placemaking plans developed through this funding opportunity should focus on one or more of the quality-of-life indicators as defined in Part III.

Applicants are expected to submit placemaking proposals under this notice that include multi-sectoral or multi-jurisdictional planning partnerships within at least one Region (as defined in Part III) that will provide measurable results in helping rural communities create greater social and cultural vitality in rural communities. RPIC projects should also support rural communities' ability to qualify for priority funding under Section 379H of the Consolidated Farm and Rural Development Act, “Strategic Economic and Community Development,” (7 U.S.C. 2008v).

For the purpose of RPIC, rural placemaking is: (1) rooted in emphasizing partnerships and collaboration among multiple public, private, Tribal, philanthropic and community partners; (2) focused on combining federal, Tribal, state, and local resources to make wide-ranging quality-of-life impacts as opposed to separate, piecemeal, incremental improvements; and (3) based on placemaking processes to create quality places where people want to live, work, play and learn. The goal is to create greater social and cultural vitality in rural communities. Key elements of quality places may include a mix of uses; effective public spaces; broadband capability; transportation options; multiple housing options; disposition and rehabilitation of vacant structures; preservation of historic properties; and respect of community heritage, arts, culture, creativity, recreation, and green space.

Additionally, the applications will be reviewed for completeness. For an application to be considered complete, the applicant must complete and submit the written narrative proposal information and the required forms contained in Parts V and VI of this NOFA. If we determine that your application is not complete, we will discontinue processing it, which means that we will not evaluate it further nor provide any scoring information.

B. Scoring Process

If your application is determined to be eligible and complete, we will further evaluate it based on the scoring criteria listed in Part VI, Section B. All applications will be competitively scored and ranked. The minimum score requirement for a cooperative agreement award under this funding opportunity is 60 points.

(1) Number of Awards: The Agency anticipates that it may select one, multiple, or no award recipients from this funding opportunity. The Agency reserves the right to withhold the awarding of any funds if no application receives a minimum score of at least 60 points.

(2) Evaluation Criteria: (refer to Summary Table of Evaluation Criteria) Proposed projects will be evaluated based only on information provided in the application. Points will be given only for factors that are well documented in the application package and, in the opinion of RD, meet the objectives outlined in each of the evaluation criteria. References to websites or publications will not be reviewed. Full documentation and support of application criteria is encouraged.

(3) The entire written narrative proposal includes the following sections in this order:

(a) Executive Summary—Provide the applicant entity name, duration of project (in months), amount of federal funding requested, amount of non-federal cost-share/match funding committed, and project title. Identify geographic locations (including the primary region in which the applicant determines where the most significant work takes place) and describe, in non-technical language, the placemaking approach to be used including the objectives and strategies to be utilized; the public, private, Tribal and philanthropic partnerships developed or to be developed; the approach to be employed (including the role of participating partners); how impact will be quantified; and the predicted benefits or deliverables of the project(s).

(b) Work Plan—Soundness of Approach (0-35 points). The applicant can receive up to 35 points for soundness of placemaking approach in their work plan. The maximum 35 points for this criterion will be based on the following:

(i) Work Plan Approach—project objectives/background/tasks with timeline and timeframes

• Project Objective(s): Description of objective(s)—clearly defined.

• Project Background: Description of the types and general locations of rural communities to be served through this project—Geographic Location or Project Areas (include Region description).

• Describe project area(s) as multi-sectoral or multi-jurisdictional. Applicants must include their ability to support rural planning activities on a multi-sectoral or multi-jurisdictional basis and how they will effectively serve these communities based on key personnel, established timeframes, and budget.

• Project Key Tasks with Timeline and Timeframes:

—Applicants are required to include Work Plan Chart(s) that lists major task(s) by key personnel involved, time period of the task(s), substantial involvement of RD staff, expected deliverables, and budget associated with tasks.

—Applicants may provide timelines to demonstrate how the technical assistance will be delivered to rural communities and describe any supporting innovative and/or traditional placemaking approaches associated to tasks.

(ii) Implementation of Workplan—Planning through the Implementation Phase

• Project Implementation:

Applicant should include details on how the technical assistance will be provided for the placemaking planning process and how it will coach/mentor the community to bring the plan to full implementation.

(iii) Alignment of Budget/Budget Justification to Workplan

• Detailed Budget Justification should align with the tasks detailed in the workplan. Discuss how the budget specifically supports the proposed activities discussed in the Project Key Tasks (as described above). Justify project costs including personnel and any limited consultant salaries with description of duties. The budget justification should include both the federal funds requested and the applicant's matching funds. The format of the budget's narrative can be in a chart, spreadsheet, table, etc., but it should be readable on letter-size, printable pages. The information needs to be presented in such a way that the reviewers can readily understand what expenses are incurred to support the project. Statement(s) of work for any subcontractors and consultants must be included as part of the application. (Note: consultants and subcontracts must only be used on a limited basis where not more than 49% of the federal grant amount requested can be contracted out to provide the proposed assistance. The majority of the primary work under the cooperative agreement MUST be performed by the applicant).

(c) Organizational Capacity & Qualifications (0-20 points). The applicant can receive up to 20 points based on organizational capacity and qualifications. The maximum 20 points for this criterion will be based on the following:

(i) The applicant should specify years of experience in placemaking activities, types of communities previously served, and experience in performance evaluation.

(ii) The applicant's proposal should demonstrate that the applicant has identified appropriate key personnel, both in terms of number of personnel and qualifications of personnel and should provide specific detail of qualifications of key personnel relating to placemaking. Capacity of personnel to access data for needs assessments and access to planners and other technical experts will be evaluated.

(iii) All eligible applicants must demonstrate the capacity to deliver and support rural placemaking planning activities within at least one of the four regions found in Part III. Capacity is defined as previous experience with federal grant administration and demonstrated experience in economic development and placemaking technical assistance.

(d) Partnerships (0-25 points). The applicant can receive up to 25 points for quantity and quality of the applicant's existing public, private, Tribal, and philanthropic partnerships and proposed new partnerships for this effort. The applicant should demonstrate their ability to leverage new partners that have had limited engagement with RD projects or priorities to leverage resources, enhance technical assistance, and/or increase reach to target areas. The maximum 25 points for this criterion will be based on the following:

(i) The applicant should provide a list of existing and/or potential partners who will commit to the project as well as a description of the sectors they represent (i.e., public, private, Tribal, philanthropic), and

(ii) The applicant should describe in detail how they will engage with these partners to support the project, including how they will leverage partner resources.

(e) Targeted Impact: Planning for Broadband Infrastructure, Deployment, and/or Access. (0-10 points). The applicant can receive up to 10 points for focusing on the following Targeted Impact. The applicant should propose how the project will plan for broadband infrastructure and/or e-connectivity opportunities within targeted areas. Please note that construction is not an allowable cost within the RPIC program.

(A) Describe how the applicant's proposal will help one or more of the targeted communities plan for broadband infrastructure around the USDA-RD ReConnect Program or other RD Broadband programs (provided that community is eligible for that program); or

(B) If one or more of the targeted communities have a USDA-RD ReConnect funded project, or other RD Broadband projects, describe how the applicant's proposal will provide follow-up and support for future broadband development or deployment; or

(C) If none of the targeted communities are participating in any RD Broadband programs, describe how the applicant will work with stakeholders to address broadband development and deployment, or broadband access or e-connectivity.

(f) Performance Measures (0-10 points). The applicant can receive up to 10 points based on the proposed performance measures to evaluate the progress and impact of the proposed project.

The criterion will be based on the applicant's proposal and should include a description for how the results of the technical assistance will be measured, including the quality-of-life indicators (set forth in Part III) and the benchmarks to be used for measuring effectiveness. Indicators to be used should be specific and be quantifiable.

(g) Optional Innovation Seed Grant (0-5 or 0-10 points) To foster public, private, Tribal and philanthropic engagement, not only through RPIC but for the community itself, the Innovation Seed Grant must be matched by no less than 50% match with additional external funding to support the community's project. The external funds can be from public, private, Tribal, philanthropic, or other federal, state, and local partners. There are two ways to be scored based on how an applicant plans to implement the Innovation Seed Grant: the applicant could receive either up to 5 points, or up to 10 points. Note that Cooperators that implement seed grants as a part of their proposal will be subject to the relevant subaward/subrecipient components from 2 CFR part 200.

(i) Scoring the Innovation Seed Grant:

• The applicant must specify Option 1 or 2.

• The applicant should provide a brief narrative of how the Innovation Seed Grant will be developed, administered, and implemented.

• It is expected that the Cooperators, in collaboration with the communities they are serving, will develop criteria for evaluating the Innovation Seed Grant for approval by a Seed Grant Committee. For evaluation of these criteria, applicants may provide sample criteria on how Seed Grants could be evaluated for:

—Innovation,

—Whether the project has been highlighted in the Placemaking Plan, and

—The probability of success and sustainability with identified outcomes to be achieved.

• The applicant MUST provide documentation of third-party matching funds contributions. These matching funds are separate from the verified matched funds required for the RPIC application. The Matching Funds Letter for the seed grants MUST specifically state that the funds are being allocated to the Innovation Seed Grant. The letter may state that the match is contingent on the applicant receiving the award. (Failing to provide verification of match disqualifies the applicant from this optional scoring criteria).

(ii) Option 1—0 to 5 points Innovation Seed Grant:

• Applicants may receive up to 5 points in scoring if their proposal and budget provide for a system of funding an Innovation Seed Grant. The seed grants are to be utilized to fund a new and innovative project that is highlighted in the placemaking plan. These seed grants are considered small financial awards for the purpose of getting a specific project implemented in the plan. The applicant can set aside, from the applicant's award, funds for an Innovation Seed Grant. The maximum RPIC funds that can be set-aside for this purpose is 10 percent.

• Individual Innovation Seed Grants may be no more than $5,000 from RPIC funds, to an ultimate recipient in a community or for an entity applying for the grant. The seed grant must have matching funds (CASH MATCH ONLY) of at least 50 percent from public, private, Tribal or philanthropic support; however, the applicant may have contributions from partnerships in excess of the minimum 50 percent match requirement.

OR

(iii) Option 2—0 to 10 points Innovation Seed Grant:

• Applicants may receive up to 10 points in scoring if their proposal and budget provide for a system of funding an Innovation Seed Grant that funds a new and innovative project that is highlighted in the placemaking plan and focuses on the Targeted Impact listed in Part VI, Section B (e) (Targeted Impact). The system should describe how the seed grant promotes and connects to the Targeted Impact. These seed grants are considered small financial awards for the purpose of getting a specific project implemented. The applicant can set aside, from the applicant's award, funds for an Innovation Seed Grant. The maximum RPIC funds that can be set-aside for this purpose is 10 percent.

• Individual Seed Grants may be no more than $5,000 from RPIC funds, to an ultimate recipient in a community or for an entity applying for the grant. The Seed Grant must have matching funds of at least 50 percent from public, private, Tribal or philanthropic support; however, the applicant may have contributions from partnerships in excess of the minimum 50 percent match requirement.

(h) Agency Discretionary Points (0-10 points):

The Agency may choose to award up to 10 points to an application that seeks to advance one or more of the USDA Rural Development Key Priorities (RD Key Priorities) as the set forth at: https://www.rd.usda.gov/priority-points, and described in the SUPPLEMETARY INFORMATION, Overview section of this notice. These points will be assigned as follows:

i. The applicant may receive 3 points, if it is determined that the applicant plans to advance one of the RD Key Priorities.

ii. The applicant may receive 6 points if it is determined that the applicant plans to advance two of the RD Key Priorities.

iii. The applicant may receive 10 points if it is determined that the applicant plans to advance three of the RD Key Priorities.

The applicant does not need to provide additional information under this category. Information in the applicant's proposal will be used to score this category, if applicable.

The Agency may, in individual cases, make an exception to any requirement or provision of this notice, which is determined to be in the Government's interest.

(i) Verification of Matching Funds. The applicant must include Matching Commitment Letters signed by the donating organization's authorized representative on the organization's letterhead that identifies the amount of matching funds or in-kind services, the time period during which matching funds will be available, and the source of the funds (e.g., cash on hand). See Part IV, Section C (Cost Sharing and Matching Funds Verification) for more information. If participating in the Optional Innovation Seed Grant, the applicant must submit separate Matching Funds Commitment Letters that specifically annotate that the funds are allocated to the Innovation Seed Grant. The funds are a cash commitment to the seed grant.

(j) Letters of Support (e.g., additional resource commitment from partners);

(k) Appendix—Graphics, References, Citations, Negotiated Indirect Cost Rate Agreement (NICRA) if applicable, organizational documents, self-certifications, etc. (Note: material added in this section may not be evaluated as part of the competitive scoring process).

Summary Table of Evaluation Criteria
Criteria | Points
1. Work Plan/Soundness of Approach | 0-35 points
a. Work Plan Approach-project objectives/background/tasks with timelines and timeframes |
b. Implementation of workplan |
c. Alignment of budget/budget justification to workplan |
2. Organizational Capacity/Qualifications | 0-20 points
a. Years of experience and processes employed in placemaking activities |
b. Key personnel/number and qualifications relating to placemaking-access to data for needs assessments |
c. Capacity to deliver placemaking planning, grant administration experience |
3. Partnerships | 0-25 points
a. Extent of existing partnerships (# of partners/public, private, Tribal, philanthropic partners) |
b. Value that partnerships will bring to placemaking project, including existing partners and leveraging new partners for the proposed project |
4. Targeted Impact | 0-10 points
Planning for Broadband Infrastructure/Deployment/Access |
5. Performance Measures | 0-10 points
Measures used for evaluating quality of life indicators and benchmarks used for measuring effectiveness |
Optional Innovation Seed Grant | 0-10 points
Option—1 Innovation Seed Grant—offering seed grants for new and innovative projects highlighted in the Placemaking Plan; or |
Option—2 Innovation Seed Grant—offering seed grants for new and innovative projects highlighted in the Placemaking Plan that specifically address the Targeted Impact priority |
Agency Discretionary Points (Note: Applicant does not need to provide additional information for this category) | 0-10 points

C. Review and Selection Process

(1) Incomplete or ineligible applications. Applications that are incomplete or ineligible will not be considered for funding (Reference Part V and Part VI).

(2) The Reviewers. All eligible applications will be evaluated by an Application Review Panel using the criteria described in Part VI of this notice. Panel members will be appointed by RD and will be qualified to evaluate the applications based on the type of work proposed by the applicant.

(3) Selection of Qualifying Applications. Applications will be selected in the following order:

(a) First, the highest scoring application in each of the four Regions will be selected.

(b) Second, the highest scoring Tribe or Tribal Entity Application, which has not already been selected as one of the highest scoring applications in one of the regions, will be selected.

(c) Third, up to four of the highest scoring Applications serving one or more communities within the Rural Partners Network (RPN) Community Networks can be selected. (RPN Community Networks are listed on the RPN website: Rural Partners Network | Rural.gov).

(d) Fourth, the remaining applications, regardless of Region, Tribal status, or RPN community, will be selected starting with the highest scoring application, until all available funds are exhausted.

(e) Applications, at or near the funding line, may be funded in part, if RD believes an appropriate benefit can result from partial funding and if the applicant agrees to the amount of partial funding. In the event RD considers partial funding to be appropriate, the applicant will be contacted to negotiate the final work plan and budget prior to award approval.

(4) Appeal Request. The applicant will be notified in writing regarding the reason(s) for any adverse decisions and will be provided a description of the options for review.

(5) Cooperative Agreement. Applicants selected for funding will complete a Cooperative/Grant agreement suitable to the Agency, which outlines the terms and conditions of the Cooperative Agreement award. Pursuant to the agreement, funds will be released over the course of the Cooperative Agreement period in the form of a reimbursement for the performance of eligible, approved activities. The agreement may also include reporting requirements which, if not met, may result in a delay in reimbursement, disallowance of expenses, or a suspension of the Agreement.

(6) Reimbursement.

(a) SF-270, “Request for Advance or Reimbursement,” will be completed by the cooperator and submitted to RD along with supporting documentation.

(b) Upon receipt of a properly completed SF-270, payment will ordinarily be made within 30 days.

(c) Any change in the scope of the project, budget adjustments of more than 10 percent of the total budget, or any other significant change in the project must be reported to and approved by the approving official. Any change not approved may be cause for termination of the Cooperative Agreement.

VII. Federal Award Administration Information

A. Federal Award Notices

(1) Successful applicants will be notified in writing by the Agency with a Letter of Conditions (LOC). The LOC is a notice of selection and does not indicate that an award has been approved, nor is it an authorization to begin performance on the award. While there may be special conditions that apply on a case-by-case basis, the conditions as stated in Part VII, Section B (Administrative and National Policy Requirements) are standard for all successful applicants.

(2) Once the conditions described in the LOC have been met, the award will be approved through the execution of Form RD 4280-2 in conjunction with the Rural Development Cooperative Agreement (RDCA) Program Attachment. If an applicant is unable to meet the conditions of the award within 90 calendar days, the award will be withdrawn.

B. Administrative and National Policy Requirements

(1) The following requirements apply to grantees selected for this program:

(a) Complete Form RD 1942-46, “Letter of Intent to Meet Conditions.”

(b) Complete Form RD 1940-1, “Request for Obligations of Funds.”

(c) Complete FMMI Vendor Code Request Form.

(d) Provide a copy of your organization's Negotiated Indirect Cost Rate Agreement, if applicable.

(e) Certify that all work completed for the award will benefit a rural area.

(f) Certify that you will comply with the Federal Funding Accountability and Transparency Act of 2006 and report information about subawards and executive compensation.

(g) Certify that the U.S. has not obtained an outstanding judgement against your organization in a Federal Court (other than in the United States Tax Court).

(h) Execute Form SF-424B, “Assurance—Non-Construction Programs.”

(i) Execute Form SF-LLL, “Disclosure Form to Report Lobbying,” if applicable, or certify that your organization does not lobby.

(2) The applicant must provide evidence of compliance with other federal statutes, including, but not limited to, the following:

(a) Debarment and suspension information as required in accordance with 2 CFR part 417 (Non-procurement Debarment and Suspension) supplemented by 2 CFR part 180, if applicable. The information required under section heading: “What information must I provide before entering into a covered transaction with a Federal agency?” located at 2 CFR 180.335 is part of OMB's Guidance for Grants and Agreements concerning Government-wide Debarment and Suspension.

(b) All of your organization's known workplaces by including the actual addresses of buildings (or parts of buildings) or other sites where work under the award takes place. Workplace identification is required under the drug-free workplace requirements in Subpart B of 2 CFR part 421, which adopts the Governmentwide implementation (2 CFR part 182) of the Drug-Free Workplace Act.

(c) 2 CFR parts 200 and 400 (Uniform Administrative Requirements, Cost Principles and Audit Requirements for Federal Awards).

(d) 2 CFR part 182 (Governmentwide Requirements for Drug-Free Workplace (Financial Assistance)) and 2 CFR part 421 (Requirements for Drug Free Workplace (Financial Assistance)).

(e) Executive Order 13166, “Improving Access to Services for Persons with Limited English Proficiency.” For information on limited English proficiency and agency-specific guidance, go to https://www.lep.gov.

(3) The following forms for acceptance of a federal award are now collected through your registration or annual recertification in SAM.gov in the Financial Assistance General Certifications and Representations section:

• Form RD 400-4, “Assurance Agreement.”

• Form AD-1047, “Certification Regarding Debarment, Suspension, and Other Responsibility Matters-Primary Covered Transactions.”

• Form AD-1048, “Certification Regarding Debarment, Suspension, Ineligibility and Voluntary Exclusion. Lower Tier Covered Transactions.”

• Form AD-1049, “Certification Regarding Drug-Free Workplace Requirements (Grants).”

• Form AD-3031, “Assurance Regarding Felony Conviction or Tax Delinquent Status for Corporate Applicants.”

C. Reporting

Grantees shall constantly monitor performance to ensure that time schedules are being met, projected work by time periods are being accomplished, and other performance objectives are being achieved.

(1) SF-PPR “Performance Progress Report,” must be submitted quarterly based on the following time periods: January 1—March 31, April 1—June 30, July 1—September 30, and October 1—December 31. Quarterly reports are due within 30 calendar days of the end of the reporting period. A final report is due within 90 calendar days of the completion of the project or the end of the period of performance, whichever comes first. Both quarterly and final performance reports must be submitted electronically to RD.

(2) Financial Report: Form SF-425, “Federal Financial Report” must be submitted quarterly based on the following time periods: January 1—March 31, April 1—June 30, July 1—September 30, October 1—December 31. Quarterly reports are due within 30 calendar days of the end of the reporting period. A final report is due within 90 calendar days of the completion of the project or the end of the period of performance, whichever comes first. Both quarterly and final reports must be submitted electronically to RD.

(3) Report Suitable for Public Distribution: A report suitable for public distribution that describes the accomplishments of the project is due within 90 calendar days of the completion of the project. There is no format prescribed for this report, but it is expected that it will be 1-2 pages in length and describe the project in such a way that a member of the public not familiar with the project would gain an understanding of the impact of the project.

VIII. Federal Awarding Agency Contacts

For further information, contact: Gregory Dale (202) 568-9558 or Sherri McCarter (615) 982-2078, email: RD.RPIC@usda.gov. Persons with disabilities who require alternative means for communication should contact the USDA Target Center at (202) 720-2600 (voice).

IX. Other Information

A. Paperwork Reduction Act

In accordance with the Paperwork Reduction Act of 1995, the information collection requirement contained in this notice is approved by the Office of Management and Budget under OMB Control Number 0570-0074.

B. Nondiscrimination Statement

In accordance with Federal civil rights law and U.S. Department of Agriculture (USDA) civil rights regulations and policies, the USDA, its agencies, offices, employees, and institutions participating in or administering USDA Programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at http://www.ascr.usda.gov/complaint_filing_cust.html, and at any USDA office, or write a letter addressed to USDA and provide in the letter all of the information requested in the form. To request a copy of the complaint form, call (866) 632-9992. Submit your completed form or letter to USDA by:

(1) Mail: U.S. Department of Agriculture, Office of the Assistant Secretary for Civil Rights, 1400 Independence Avenue SW, Washington, DC 20250-9410;

(2) Fax: (202) 690-7442; or

(3) Email: program.intake@usda.gov.

USDA is an equal opportunity provider, employer, and lender.

Justin Maxson,
Deputy Under Secretary, Rural Development, U.S. Department of Agriculture.

[FR Doc. 2022-14028 Filed 6-29-22; 8:45 am]

BILLING CODE 3410-XY-P